DEPARTMENT OF AGRICULTURE

Forest Service

California Coast Provincial Advisory Committee

AGENCY: Forest Service, USDA.

ACTION: Notice of meeting.

SUMMARY: The California Coast Provincial Advisory Committee (CCPAC) will meet on March 2-3, 2005, in Ukiah, California. The purpose of the meeting is to discuss issues relating to implementing the Northwest Forest Plan (NWFP).

DATES: The meeting will be held from 8:30 a.m. to 3:30 p.m. each day.

ADDRESSES: The meeting will be held at the Discovery Inn, Landmark Conference Room, 1340 No. State St., Ukiah.

FOR FURTHER INFORMATION CONTACT: Phebe Brown, Committee Coordinator, USDA, Mendocino National Forest, 825 N. Humboldt Avenue, Willows, CA 95988, (530) 934-1137; E-mail pybrown@fs.fed.us.

SUPPLEMENTARY INFORMATION: On March 2, the CCPAC will take a field trip to Covelo, CA, to tour the Mill Creek restoration project, and hazardous fuels reduction and timber management projects as guests of the Round Valley Tribes. On March 3, the business meeting agenda items to be covered include: (1) Regional Ecosystem Office (REO) update; (2) Presentation on Pacific Southwest Region Forest Service Off Highway Vehicle Route Designation Process; (3) Update on new forest Service planning rule; (4) Report and recommendations from the Work on the Ground Subcommittee; (5) NOAA-Fisheries presentation on salmonid critical habitat; (6) Update on transition from the Aquatic Conservation Strategy requirements to survey and manage certain species to management under the Sensitive Species Program; and (7) Public comment. The meeting is open to the public. Public input opportunity will be provided and individuals will have the opportunity to address the Committee at that time.

Dated: February 7, 2004.
James D. Fenwood,
Designated Federal Official.

[FR Doc. 05-3235 Filed 2-18-05; 8:45 am]

BILLING CODE 3410-11-M